DEPARTMENT OF HEALTH AND HUMAN SERVICES

National Institutes of Health

Center for Scientific Review; Amended Notice of Meeting

Notice is hereby given of a change in the meeting of the Cellular, Molecular and Integrative Reproduction Study Section, October 09, 2013, 08:00 a.m. to October 09, 2013, 05:00 p.m., Residence Inn Bethesda, 7335 Wisconsin Avenue, Bethesda, MD 20814, which was published in the Federal Register on September 17, 2013, 78 FR 180 Pgs. 57169-57170.

The meeting will be held at the National Institutes of Health, 6701 Rockledge Dr., Bethesda, MD 20892. The meeting will start on December 11, 2013 at 11:00 a.m. and end on December 12, 2013 at 6:30 p.m. The meeting is closed to the public.

Dated: October 29, 2013.
Melanie J. Gray,
Program Analyst, Office of Federal Advisory Committee Policy.

[FR Doc. 2013-26218 Filed 11-1-13; 8:45 am]

BILLING CODE 4140-01-P